COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List services to be furnished by nonprofit agencies employing persons who are blind or have other severe disabilities.

EFFECTIVE DATE: December 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On September 6, and October 4, 2002, the Committee for Purchase From People Who Are Blind or Severely Disabled published notice (67 FR 56981, and 62224) of proposed additions to the Procurement List.

The following comments pertain to Pest Control, Naval Base Ventura County, California.

Comments were received from the current contractor for this pest control service. The contractor indicated that loss of the contract would have a severe adverse impact on the company. The contractor also questioned whether pest control is suitable work for people with severe disabilities, and whether the designated nonprofit agency would be able to meet health and safety requirements for proper performance of the service.

In making its claim of severe adverse impact, the contractor provided figures showing that this contract represents a sizeable minority of the total sales of the company branch office which performs this work. The Committee, however, looks to total sales of the entire company when assessing the severity of impact on a contractor. The percentage of the company's total sales which this pest control service represents is far below the level which the Committee normally considers to constitute severe adverse impact on a contractor.

The contractor noted that there are numerous Federal and State rules applicable to this pest control service, and that the pests at the service location require a number of specialized tasks to control. The contractor stated that all of these tasks are currently being performed by licensed pest control technicians. The contractor also noted that nonprofit agencies performing grounds maintenance services under the Committee's program normally subcontract pest control to licensed and certified pest control firms.

Unlike the nonprofit agencies performing grounds maintenance services which the contractor noted, the nonprofit agency designated to perform this service has done pest control in its grounds maintenance services. This nonprofit agency will be licensed and certified to perform the pest control work needed in the pest control service now being added to the Procurement List. The nonprofit agency will meet all applicable certified staffing and other State and Federal requirements for pest control when it provides this service, as well as the requirements set forth in the Statement of Work for the pest control contract. The nonprofit agency already employs people with severe disabilities who are licensed to perform pest control work. Accordingly, the Committee does not agree with the contractor's contention that pest control work is not suitable for people with severe disabilities.

The following material pertains to all of the items being added to the Procurement List.

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

Accordingly, the following services are added to the Procurement List:

Services

Service Type/Location: Facility Services, Retirement Operations Center, Boyers, Pennsylvania

NPA: The Easter Seal Society of Western Pennsylvania, Pittsburgh, Pennsylvania.

Contract Activity: Office of Personnel Management, Washington, DC.

Service Type/Location: Grounds and Landscape Maintenance Services, Fort Point Reservation Area, Galveston, Texas, San Jacinto Disposal Area, Galveston, TX.

NPA: Training, Rehabilitation & Development Institute, Inc., San Antonio, Texas.

Contract Activity: U.S. Army Engineer District, Galveston, Texas.

Service Type/Location: Pest Control, Naval Base Ventura County, Ventura , California.

NPA: PRIDE Industries, Roseville, California.

Contract Activity: ROICC/Naval Base Ventura County, Point Mugu, California.

This action does not affect current contracts awarded prior to the effective date of this addition or options that may be exercised under those contracts.

G. John Heyer,
General Counsel.

[FR Doc. 02-30309 Filed 11-27-02; 8:45 am]

BILLING CODE 6353-01-P